DEPARTMENT OF ENERGY

10 CFR Part 850

[Docket No. AU-RM-11-CBDPP]

RIN 1992-AA39

Chronic Beryllium Disease Prevention Program; Correction

AGENCY: Office of Environment, Health, Safety and Security, U.S. Department of Energy.

ACTION: Notice of proposed rulemaking and public hearings; correction.

SUMMARY: This document corrects the ADDRESSES section to the notice of proposed rulemaking and public hearings which published in the Federal Register on June 7, 2016, regarding the Chronic Beryllium Disease Prevention Program. This correction revises the addresses relating to two of the public hearings.

DATES: June 14, 2016.

FOR FURTHER INFORMATION CONTACT: Jacqueline D. Rogers, 202-586-4714, email: jackie.rogers@hq.doe.gov, or Meredith Harris, 301-903-6061, email: meredith.harris@hq.doe.gov.

SUPPLEMENTARY INFORMATION:

Correction

In proposed rule document FR 2016-12547 appearing on page 36704, in the issue of Tuesday, June 7, 2016, (81 FR 36704), the following corrections should be made:

On page 36704, in the second column, the next to the last paragraph in the ADDRESSES section is corrected to the following:

1. Richland, WA: HAMMER Federal Training Facility, State Department Room, 2890 Horn Rapids Road, Richland, WA 99354;

On page 36704, in the third column, the first paragraph in the ADDRESSES section is corrected to the following:

3. Las Vegas, NV: North Las Vegas Facility, 2621 Losee Road, Building C1, Auditorium, North Las Vegas, NV 89030-4129.

Issued in Washington, DC, on June 8, 2016.
Bill McArthur,
Acting Director, Office of Health and Safety.

[FR Doc. 2016-14020 Filed 6-13-16; 8:45 am]

BILLING CODE 6450-01-P